DEPARTMENT OF HOMELAND SECURITY

Coast Guard

33 CFR Part 165

[Docket No. USCG-2019-0227]

Safety Zones; Recurring Events in Captain of the Port Duluth Zone—Bridgefest Regatta Fireworks

AGENCY: Coast Guard, DHS.

ACTION: Notice of enforcement of regulation.

SUMMARY: The Coast Guard will enforce the safety zone in 33 CFR 165.943 for the Bridgefest Regatta Fireworks in Houghton, MI from 9:30 p.m. through 11:30 p.m. on June 15, 2019. This action is necessary to protect participants and spectators prior to, during, and immediately after the fireworks display. During the enforcement period listed below, entry into, transiting, or anchoring within the safety zone is prohibited unless authorized by the Captain of the Port Duluth or a designated on-scene representative.

DATES: The regulations in 33 CFR 165.943(a)(1) will be enforced as listed in Table 165.943 from 9:30 p.m. through 11:30 p.m. on June 15, 2019.

FOR FURTHER INFORMATION CONTACT: If you have questions about this notice of enforcement, call or email LT Abbie Lyons, Chief of Waterways Management, Coast Guard; telephone (218) 725-3818, email DuluthWWM@uscg.mil.

SUPPLEMENTARY INFORMATION: The Coast Guard will enforce the Bridgefest Regatta Fireworks safety zone listed as item (1) in Table 165.943 of 33 CFR 165.943 from 9:30 p.m. through 11:30 p.m. on June 15, 2019 on all waters of the Keweenaw Waterway bounded by the arc of a circle with a 100-yard radius from the fireworks launch site with its center in approximate position 47°07′28″ N, 088°35′02″ W. This action is being taken to provide for the safety of life and property on a navigable waterway during the fireworks display.

Entry into, transiting, or anchoring within the safety zone is prohibited unless authorized by the Captain of the Port Duluth or a designated on-scene representative. The Captain of the Port Duluth or an on-scene representative may be contacted via VHF Channel 16 or at (906) 635-3217.

This notice of enforcement is issued under authority of 33 CFR 165.943 and 5 U.S.C. 552 (a). In addition to this publication in the Federal Register, the Coast Guard will provide the maritime community with advance notification of the enforcement of this safety zone via Broadcast Notice to Mariners.

Dated: May 3, 2019.
E.E. Williams,
Commander, U.S. Coast Guard, Captain of the Port Duluth.

[FR Doc. 2019-09471 Filed 5-7-19; 8:45 am]

BILLING CODE 9110-04-P